NUCLEAR WASTE TECHNICAL REVIEW BOARD

Board Meeting

The U.S. Nuclear Waste Technical Review Board will hold a virtual public meeting on November 3-4, 2021.

Board meeting: November 3-4, 2021—The U.S. Nuclear Waste Technical Review Board will hold a virtual public meeting to review information on the U.S. Department of Energy's research and development activities related to the geologic disposal safety assessment framework.

Pursuant to its authority under section 5051 of Public Law 100-203, Nuclear Waste Policy Amendments Act (NWPAA) of 1987, the U.S. Nuclear Waste Technical Review Board will hold an virtual public meeting on Wednesday, November 3, 2021, and Thursday, November 4, 2021, to review information on the U.S. Department of Energy's (DOE) research and development activities related to the geologic disposal safety assessment framework.

The meeting will begin on both days at 12:00 p.m. Eastern Daylight Time (EDT) and is scheduled to adjourn at 5:00 p.m. EDT. On the first day, the initial speaker, from the DOE Office of Nuclear Energy, will provide an update on DOE's Spent Fuel and Waste Disposition Program. The remaining speakers representing the national laboratories conducting the work for DOE will report on DOE's activities to support the development of a capability to model the post-closure performance of a repository for spent nuclear fuel (SNF) and high-level radioactive waste (HLW). Speakers will describe DOE's program including its objectives, research thrusts, and recent accomplishments. They will describe advanced simulation capabilities, including the Geologic Disposal Safety Assessment (GDSA) Framework and PFLOTRAN, as well as examples of how features and processes are integrated into the GDSA Framework.

On the second day, a final example of how features and processes are integrated into the GDSA Framework will be described by a speaker from the national laboratories. Speakers from the U.S. Nuclear Regulatory Commission and the United Kingdom's Radioactive Waste Management organization will present their perspectives on development of a performance assessment capability to model the post-closure performance of a repository. Speakers from the national laboratories will present work on the development of uncertainty and sensitivity analysis tools for GDSA Framework and the implementation of GDSA Framework to generic repository reference cases for bedded salt, shale, and crystalline host rocks. They will present a case study in integrating insight and experience from the international community in GDSA. A detailed meeting agenda will be available on the Board's website at www.nwtrb.gov approximately one week before the meeting.

The meeting will be open to the public, and opportunities for public comment will be provided at the end of each day of the meeting. Details on how to submit public comments during the meeting will be provided on the Board's website along with the details for viewing the meeting. A limit may be set on the time allowed for the presentation of individual remarks. However, written comments of any length may be submitted to the Board staff by mail or electronic mail. All comments received in writing will be included in the meeting record, which will be posted on the Board's website after the meeting. An archived recording of the meeting will be available on the Board's website following the meeting. The transcript of the meeting will be available on the Board's website by January 3, 2022.

The Board was established in the Nuclear Waste Policy Amendments Act of 1987 as an independent federal agency in the Executive Branch to evaluate the technical and scientific validity of DOE activities related to the management and disposal of SNF and HLW, and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Bret Leslie: leslie@nwtrb.gov or Roberto Pabalan: pabalan@nwtrb.gov . For information on logistics, or to request copies of the meeting agenda or transcript, contact Davonya Barnes: barnes@nwtrb.gov. All three may be reached by mail at 2300 Clarendon Boulevard, Suite 1300, Arlington, VA 22201-3367; by telephone at 703-235-4473; or by fax at 703-235-4495.

Dated: October 20, 2021.
Neysa M. Slater-Chandler,
Director of Administration, U.S. Nuclear Waste Technical Review Board.

[FR Doc. 2021-23283 Filed 10-25-21; 8:45 am]

BILLING CODE 6820-AM-P